ENVIRONMENTAL PROTECTION AGENCY

[EPA-HQ-OPP-2024-0536; FRL-12960-01-OMS]

Agency Information Collection Activities; Submission to the Office of Management and Budget for Review and Approval; Comment Request; Labeling Requirements for Certain Minimum Risk Pesticides Under FIFRA Section 25(b) (Renewal)

AGENCY: Environmental Protection Agency (EPA).

ACTION: Notice.

SUMMARY: The Environmental Protection Agency (EPA) has submitted an information collection request (ICR), Labeling Requirements for Certain Minimum Risk Pesticides Under FIFRA Section 25(b) (EPA ICR Number 2475.05 and OMB Control Number 2070-0187) to the Office of Management and Budget (OMB) for review and approval in accordance with the Paperwork Reduction Act. This is a proposed extension of the ICR, which is approved through August 31, 2025. Public comments were previously requested via the Federal Register on December 13, 2024 during a 60-day comment period. This notice allows for an additional 30 days for public comments.

DATES: Comments may be submitted on or before September 29, 2025.

ADDRESSES: Submit your comments, referencing Docket ID Number: EPA-HQ-OPP-2024-0536 to EPA online using regulations.gov (our preferred method), by email to docket.epa.gov or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Carolyn Siu, Office of Program Support (Mail Code 7602M), Office of Chemical Safety and Pollution Prevention, Environmental Protection Agency, 1200 Pennsylvania Ave. NW, Washington, DC 20460; telephone number: (202) 566-1205; email address: siu.carolyn@epa.gov.

SUPPLEMENTARY INFORMATION: This is a proposed extension of the ICR, which is currently approved through August 30, 2025. An agency may not conduct or sponsor and a person is not required to respond to a collection of information unless it displays a currently valid OMB control number.

Public comments were previously requested via the Federal Register on December 13, 2024, during a 60-day comment period (89 FR 101009). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: In accordance with the Paperwork Reduction Act (PRA) (44 U.S.C. 3501 et seq.), this information collection request documents the PRA burden for the labeling requirements for certain minimum risk pesticide products exempt from Federal Insecticide, Fungicide, and Rodenticide Act (FIFRA) registration under 40 CFR 152.25(f). These requirements were updated in the final rule entitled: Pesticides; Revisions to Minimum Risk Exemption (80 FR 80653, December 28, 2015). Under 40 CFR 152.25(f), EPA has exempted from the requirement of FIFRA registration certain pesticide products if they are composed of specified ingredients and labeled accordingly. EPA created the exemption for minimum risk pesticides to eliminate the need for industry or business to expend significant resources to apply for and maintain regulated products that are deemed to be of minimum risk to human health and the environment. In addition, exempting such products freed Agency resources to focus on evaluating formulations whose toxicity was less well characterized, or was of higher toxicity. The labeling requirements are the key component of the minimum risk exemption since this is the only information that enforcement authorities have to assess whether or not the product meets the exemption requirements. While EPA does not review these products, and therefore a Federal label review is not conducted, to maintain exemption status, an exempt product's label must meet certain criteria.

The ICR, which is available in the docket along with other related materials, provides a detailed explanation of the collection activities and the burden estimate that is only briefly summarized here:

Form number(s): None.

Respondents/affected entities: Entities potentially affected by this ICR include engaged in activities related to the registration of pesticide products including manufacturers, distributers, retailers, and users of minimum risk pesticides.

Respondent's obligation to respond: Required to obtain or retain a benefit (FIFRA sections 3 and 25; 40 CFR 152.25(f)).

Estimated number of respondents: 234 (total).

Frequency of response: Once.

Total estimated burden: 752 hours (per year). Burden is defined at 5 CFR 1320.3(b).

Total estimated cost: $109,361 (per year), which includes $0 annualized capital or operation & maintenance costs.

Changes in the estimates: There is an increase of 273 annual hours in the total estimated respondent burden compared with the ICR currently approved by OMB. This increase is due to EPA's estimation of new products entering the market, which has increased from 87 to 137 per year, and updated wage rates. These changes are an adjustment.

Courtney Kerwin,
Director, Information Engagement Division.

[FR Doc. 2025-16473 Filed 8-27-25; 8:45 am]

BILLING CODE 6560-50-P